DEPARTMENT OF TRANSPORTATION

Federal Aviation Administration

Notice of Intent To Rule on Application 05-05-C-00-MSO To Impose and Use the Revenue From a Passenger Facility Charge (PFC) at Missoula International Airport, Submitted by the Missoula County Airport Authority, Missoula International Airport, Missoula, MT

AGENCY: Federal Aviation Administration (FAA), DOT.

ACTION: Notice of intent to rule on application.

SUMMARY: The FAA proposes to rule and invites public comment on the application to impose and use PFC revenue at Missoula International Airport under the provisions of 49 U.S.C. 40117 and part 158 of the Federal Aviation Regulations (14 CFR part 158).

DATES: Comments must be received on or before June 30, 2005.

ADDRESSES: Comments on this application may be mailed or delivered in triplicate to the FAA at the following address: David S. Stelling, Manager; Helena Airports District Office, HLN-ADO; Federal Aviation Administration; FAA Building, Suite 2; 2725 Skyway Drive, Helena, Montana 59602-1213.

In addition, one copy of any comments submitted to the FAA must be mailed or delivered to Joe Easton, Acting Airport Director: Missoula County Airport Authority, 5225 Highway 10 West, Missoula, Montana 59808-6103.

Air Carriers and foreign air carriers may submit copies of written comments previously provided to Missoula International Airport, under § 158.23 of part 158.

FOR FURTHER INFORMATION CONTACT: David S. Stelling, Manager; Helena Airports District Office, HLN-ADO; Federal Aviation Administration; FAA Building, Suite 2; 2725 Skyway Drive, Helena, Montana 59602-1213. The application may be reviewed in person at this same location.

SUPPLEMENTARY INFORMATION: The FAA proposes to rule and invites public comment on the application 05-05-C-00-MSO to impose and use PFC revenue at Missoula International Airport, under the provisions of 49 U.S.C. 40117 and part 158 of the Federal Aviation Regulations (14 CFR part 158).

On May 23, 2005, the FAA determined that the application to impose and use the revenue from a PFC submitted by Missoula County Airport Authority, Missoula International Airport, Missoula, Montana, was substantially complete within the requirements of § 158.25 of part 158. The FAA will approve or disapprove the application, in whole or in part, no later than August 24, 2005.

The following is a brief overview of the application.

Level of the proposed PFC: $4.50.

Proposed charge effective date: October 1, 2005.

Proposed charge expiration date: June 1, 2007.

Total requested for use approval: $2,339,144.

Brief description of proposed projects: Rehabilitate Taxiways “D” and “G”; Acquire Passenger Loading Bridges; Acquire Aircraft Rescue and Firefighting Vehicle; Extend Taxiway “A” and Rehabilitate and Extend Taxiway “F”; Acquire Snow Removal Equipment; Update Airport Layout Plan and Conduct Federal Aviation Regulations (FAR) part 150 Noise Study; Construct Access Taxiway; and Enhance Terminal Security Screening Checkpoint.

Class or classes of air carriers which the public agency has requested not be required to collect PFC's: Air Taxi/Commercial Operators (ATCO) filing FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Missoula International Airport.

Issued in Renton, Washington on May 23, 2005.
David A. Field,
Manager, Planning, Programming and Capacity Branch, Northwest Mountain Region.

[FR Doc. 05-10725 Filed 5-27-05; 8:45 am]

BILLING CODE 4910-13-M